DEPARTMENT OF AGRICULTURE

Animal and Plant Health Inspection Service

[Docket No. APHIS-2009-0001]

Notice of Request for Extension of Approval of an Information Collection; National Animal Health Reporting System

AGENCY: Animal and Plant Health Inspection Service, USDA.

ACTION: Extension of approval of an information collection; comment request.

SUMMARY: In accordance with the Paperwork Reduction Act of 1995, this notice announces the Animal and Plant Health Inspection Service's intention to request an extension of approval of an information collection to support the National Animal Health Reporting System.

DATES: We will consider all comments that we receive on or before May 11, 2009.

ADDRESSES: You may submit comments by either of the following methods:

• Federal eRulemaking Portal: Go to http://www.regulations.gov/fdmspublic/component/main?main=DocketDetail&d=APHIS-2009-0001 to submit or view comments and to view supporting and related materials available electronically.

• Postal Mail/Commercial Delivery: Please send two copies of your comment to Docket No. APHIS-2009-0001, Regulatory Analysis and Development, PPD, APHIS, Station 3A-03.8, 4700 River Road Unit 118, Riverdale, MD 20737-1238. Please state that your comment refers to Docket No. APHIS-2009-0001.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the National Animal Health Reporting System, contact Ms. Sandra Warnken, Program and Management Analyst, Centers for Epidemiology and Animal Health, VS, APHIS, 2150 Centre Avenue, Building B MS 2E6, Fort Collins, CO 80526; (970) 494-7193 For copies of more detailed information on the information collection, contact Mrs. Celeste Sickles, APHIS Information Collection Coordinator, at (301) 851-2908.

SUPPLEMENTARY INFORMATION: Title: National Animal Health Reporting System.

OMB Number: 0579-0299.

Type of Request: Extension of approval of an information collection.

Abstract: Under the Animal Health Protection Act (7 U.S.C. 8301 et seq.), the Animal and Plant Health Inspection Service (APHIS) is authorized, among other things, to prohibit or restrict the importation and interstate movement of animals and other articles to prevent the introduction and interstate spread of livestock diseases and to eradicate such diseases from the United States when feasible. In connection with this mission, APHIS operates the National Animal Health Reporting System (NAHRS), which collects, on a national basis, data monthly from State veterinarians on the presence or absence of diseases of interest to the World Organization for Animal Health (OIE).

As a member country of OIE, the United States must submit reports to the OIE on the status of certain diseases in specific livestock, poultry, and aquaculture species. Reportable diseases are diseases that have the potential for rapid spread, irrespective of national borders, that are of serious socio-economic or public health consequence, and that are of major importance in the international trade of animals and animal products. The potential benefits to trade of accurate reporting on the health status of the U.S. commercial livestock, poultry, and aquaculture industries, include expansion of those industries into new export markets, and preservation of existing markets through increased confidence in quality and disease freedom. This data collection is unique in terms of the type, quantity, and frequency; no other entity is collecting and reporting data to the OIE on the health status of U.S. livestock, poultry, and aquaculture.

We are asking the Office of Management and Budget (OMB) to approve our use of this information collection activity for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of Burden: The public reporting burden for this collection of information is estimated to average 4 hours per response.

Respondents: State veterinarians.

Estimated Annual Number of Respondents: 50.

Estimated Annual Number of Responses per Respondent: 12.

Estimated Annual Number of Responses: 600.

Estimated Total Annual Burden on Respondents: 2,400 hours. (Due to averaging, the total annual burden hours may not equal the product of the annual number of responses multiplied by the reporting burden per response.)

All responses to this notice will be summarized and included in the request for OMB approval. All comments will also become a matter of public record.

Done in Washington, DC, this 4th day of March 2009.
Kevin Shea,
Acting Administrator, Animal and Plant Health Inspection Service.

[FR Doc. E9-5030 Filed 3-9-09; 8:45 am]

BILLING CODE 3410-34-P